FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than March 21, 2024.

A. Federal Reserve Bank of Minneapolis (Stephanie Weber, Assistant Vice President) 90 Hennepin Avenue, Minneapolis, Minnesota 55480-0291. Comments can also be sent electronically to MA@mpls.frb.org:

1. Timothy J. Hoese, individually, and as beneficiary with voting rights to the Clayton W. Hoese Irrevocable Trust Under Agreement dated June 18, 1981, as modified September 12, 2023, all of Glencoe, Minnesota; to become a member of the Hoese/Schornack Family Shareholder Group, a group acting in concert, to retain voting shares of Flagship Financial Group, Inc., Eden Prairie, Minnesota, and thereby indirectly retain voting shares of Flagship Bank Minnesota, Wayzata, Minnesota, and Security Bank & Trust Company, Glencoe, Minnesota.

2. The Fishback-Mitchell FFC Living Trust established August 16, 2023, Amanda T. Mitchell and John T. Fishback, as co-trustees, all of San Francisco, California; to become members of the Fishback Family Shareholder Group, a group acting in concert, to retain voting shares of Fishback Financial Corporation, and thereby indirectly retain voting shares of First Bank & Trust, both of Brookings, South Dakota.

Board of Governors of the Federal Reserve System.
Michele Taylor Fennell,
Deputy Associate Secretary of the Board.

[FR Doc. 2024-04770 Filed 3-5-24; 8:45 am]

BILLING CODE P